DEPARTMENT OF COMMERCE

National Oceanic and Atmospheric Administration

ENVIRONMENTAL PROTECTION AGENCY

Coastal Nonpoint Pollution Control Program: Finding That Oregon Has Not Submitted a Fully Approvable Coastal Nonpoint Pollution Control Program

AGENCY: National Oceanic and Atmospheric Administration, Department of Commerce; Environmental Protection Agency.

ACTION: Notice of availability.

SUMMARY: The National Oceanic and Atmospheric Administration (NOAA) and the U.S. Environmental Protection Agency (EPA) announce the availability of the federal agencies' finding that Oregon has not submitted a fully approvable Coastal Nonpoint Pollution Control Program that meets the requirements of the Coastal Zone Act Reauthorization Amendments (CZARA). CZARA directs states and territories with coastal management programs previously approved under Section 306 of the Coastal Zone Management Act to develop and implement coastal nonpoint pollution control programs which must be submitted to NOAA and EPA for approval.

FOR FURTHER INFORMATION CONTACT: Allison Castellan, Stewardship Division, (N/OCM6), Office for Coastal Management, NOS, NOAA, 1305 East-West Highway, Silver Spring, Maryland 20910, phone (301) 713-3155, x125, email Allison.Castellan@noaa.gov.

(Federal Domestic Assistance Catalog 11.419 Coastal Zone Management Program Administration)

SUPPLEMENTARY INFORMATION: NOAA and EPA (federal agencies) announce the availability of the federal agencies' finding that Oregon has not submitted a fully approvable coastal nonpoint pollution control program (coastal nonpoint program). Section 6217(a) of the Coastal Zone Act Reauthorization Amendments (CZARA), 16 U.S.C. 1455b(a), requires that each state (or territory) with a coastal management program previously approved under section 306 of the Coastal Zone Management Act must prepare and submit to the federal agencies a coastal nonpoint program for approval by the federal agencies. State coastal nonpoint programs were to be submitted to the federal agencies for approval by July 1995, and Oregon submitted its program by that date. The federal agencies provided public notice of, and invited public comment on, their proposal to approve, with conditions, the Oregon program (62 FR 6216). The federal agencies approved the program by letter dated January 13, 1998, subject to the conditions specified in the letter (63 FR 11655). All of the conditions identified at that time must be met for Oregon to have a fully approvable coastal nonpoint program. The federal agencies' finding announced in this notice addresses only the additional management measures related to forestry, which were conditioned in the 1998 approval.

Prior to making this finding, the federal agencies invited public input on the federal agencies' proposed decision and the reasoning for such a decision and provided a 90-day public comment period on the proposed decision (see December 20, 2013, Federal Register Notice 78 FR 77104). The federal agencies also announce their publication of a response to the comments received regarding the proposed decision.

Over time, Oregon has made considerable progress in its coastal nonpoint program in order to satisfy the conditions the federal agencies identified. As explained in the decision document containing the rationale for the federal agencies' decision, however, the federal agencies find that Oregon has not yet submitted a fully approvable program that meets the condition set for developing additional management measures for forestry, and consequently, the federal agencies find that Oregon has not submitted a program that is approvable under CZARA. The decision document describes why Oregon's program has not yet satisfied the remaining conditions that relate to reducing the adverse effects of certain forestry-related activities on Oregon's coastal water quality.

References: The decision document, response to comments, public comments received, and other supporting information used to make the finding announced here are available on the NOAA Web site at http://coast.noaa.gov/czm/pollutioncontrol/. Hard copies are available at: U.S. Environmental Protection Agency, Oregon Operations Office, 805 SW. Broadway, Suite 500, Portland, Oregon 97205, Tom Townsend, phone (503) 326-3250.

Dated: February 24, 2015.
W. Russell Callender,
Acting Assistant Administrator for Ocean Services, National Oceanic and Atmospheric Administration.
Dennis J. McLerran,
Regional Administrator, Region 10, U.S. Environmental Protection Agency.

[FR Doc. 2015-04230 Filed 2-26-15; 8:45 am]

BILLING CODE 6560-50-P